ENVIRONMENTAL PROTECTION AGENCY
[OECA-2003-0031; FRL-7615-8]
Agency Information Collection Activities; Submission for OMB Review and Approval; Comment Request; NESHAP for Off-Site Waste and Recovery Operations (40 CFR part 63, subpart DD), EPA ICR Number 1717.04, OMB Control Number 2060-0313

AGENCY:
Environmental Protection Agency (EPA).

ACTION:
Notice.

SUMMARY:
In compliance with the Paperwork Reduction Act, this document announces that an Information Collection Request (ICR) has been forwarded to the Office of Management and Budget (OMB) for review and approval. This is a request to renew an existing approved collection. This ICR is scheduled to expire on January 31, 2004. Under OMB regulations, the Agency may continue to conduct or sponsor the collection of information while this submission is pending at OMB. This ICR describes the nature of the information collection and its estimated burden and cost.

DATES:
Additional comments may be submitted on or before March 1, 2004.

ADDRESSES:

Submit your comments, referencing docket ID number OECA-2003-0031, to (1) EPA online using EDOCKET (our preferred method), by email to docket.oeca@epa.gov, or by mail to: EPA Docket Center, Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT:

Learia Williams, Compliance Assessment and Media Programs Division, Mail Code 2223A, Office of Compliance, Environmental Protection Agency, 1200 Pennsylvania Avenue, NW., Washington, DC 20460; telephone number: (202) 564-4113; fax number: (202) 564-0050; e-mail address: williams.learia@epa.gov.

SUPPLEMENTARY INFORMATION:
EPA has submitted the following ICR to OMB for review and approval according to the procedures prescribed in 5 CFR 1320.12. On May 19, 2003 (68 FR 27059), EPA sought comments on this ICR pursuant to 5 CFR 1320.8(d). EPA received no comments.

EPA has established a public docket for this ICR under Docket ID Number OECA-2003-0031, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Off-Site Waste and Recovery Operations (40 CFR Part 63, Subpart DD) (Renewal).

Abstract: The National Emission Standards for Hazardous Air Pollutants (NESHAP), were proposed on October 13, 1994, and promulgated on July 1, 1996. These standards provide for control of hazardous air pollutants (HAP) emissions from selected facilities involved in waste management and recovery operations that are not subject to Federal air standards under other subparts in part 63 commencing construction, modification or reconstruction after the date of proposal if the facility is a “major source” of HAP emissions as defined in general provisions to 40 CFR part 63 or the facility potential to emit is more than 10 tons per year for a single HAP or more than 25 tons per year for multiple HAP. In addition, subpart DD cross-references control requirements to be applied to specific types of affected sources: Tanks-level 1, containers, surface impoundments, individual drain systems, oil-water separators and organic water separators, loading, transfer, and storage systems. This information is being collected to assure compliance with 40 CFR part 63, subpart DD. Organic HAP emissions are the pollutants regulated under this subpart.
Owners or operators of the affected facilities described must make one-time-only notifications. Owners or operators are also required to maintain records of the occurrence and duration of any startup, shutdown, or malfunction in the operation of an affected facility, or any period during which the monitoring system is inoperative. Semiannual reports of excess emissions (or reports certifying that no exceedances have occurred) are required. These notifications, reports, and records are essential in determining compliance; and are required, in general, of all sources subject to NESHAP.
These standards rely on the control of organic HAP emissions by control technology. The required notifications are used to inform the Agency or delegated authority when a source becomes subject to the standard. The reviewing authority may then inspect the source to check if the pollution control devices are properly installed and operated, leaks are being detected and repaired and the standard is being met. Performance test reports are needed as these are the Agency's record of a source's initial capability to comply with the emission standard, and serve as a record of the operating conditions under which compliance was achieved.
An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 218 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Off-site waste and recovery operations.

Estimated Number of Respondents: 236.

Frequency of Response: On occasion and semiannually.

Estimated Total Annual Hour Burden: 154,306 hours.

Estimated Total Cost: $9,928,000, which includes zero annualized capital/startup costs, $5,000 annual O&M costs, and $9,923,000 annual labor costs.

Changes in the Estimates: There is a decrease of 7,744 hours in the total estimated burden currently identified in the OMB Inventory of Approved ICR Burdens. This is due to a decrease in the number of sources.

Dated: January 22, 2004.
Doreen Sterling,
Acting Director, Collection Strategies Division.

[FR Doc. 04-1976 Filed 1-29-04; 8:45 am]
BILLING CODE 6560-50-P